DEPARTMENT OF COMMERCE

Foreign-Trade Zones Board

[Docket 29-2001]

Foreign-Trade Zone 25—Broward County, Florida; Proposed Foreign-Trade Subzone, Motiva Enterprises LLC (Petroleum Product Storage), Broward County, Florida

An application has been submitted to the Foreign-Trade Zones Board (the Board) by Broward County, Florida, grantee of FTZ 25, requesting special-purpose subzone status for the petroleum product storage facility of Motiva Enterprises, LLC (Motiva), located in the Fort Lauderdale, Florida, area. The application was submitted pursuant to the provisions of the Foreign-Trade Zones Act, as amended (19 U.S.C. 81a-81u), and the regulations of the Board (15 CFR part 400). It was formally filed on June 29, 2001.

The Motiva facility (34 acres) is located at 3 sites with connecting pipelines in Fort Lauderdale, Florida, (Broward County): Site 1 (9 tanks, 550,000 barrel capacity, 18 acres)—South Terminal product storage facility is located at 1200 S.E. 28th Street; Site 2 (15 tanks, 600,000 barrel capacity, 15 acres)—East Terminal product storage facility is located at 1500 S.E. 26th Street; Site 3—dock manifolds at berths 7, 9, and 13, Port Everglades, leased from Cliff Berry & Associates.

The storage facility is primarily used for the receipt, storage, blending and distribution of jet fuel by pipeline to the Miami and Fort Lauderdale International Airports. The company also uses the facility to store and distribute gasoline, diesel fuel, distillate fuels, and blending stocks. Some of the products are or will be sourced from abroad or from U.S. refineries under FTZ procedures.

The Motiva connecting pipelines are used for routing of petroleum products to the storage terminals from arriving vessels at the dock manifolds. The Motiva South and East Terminals have no direct connections with each other and product may be pumped between the two terminals through the Motiva pipeline connected through the dock manifolds.

Zone procedures would exempt Motiva from Customs duties and federal excise taxes on foreign status jet fuel used for international flights. On domestic sales, the company would be able to defer Customs duty payments until the products leave the facility. The application indicates that the savings from FTZ procedures would help improve the facility's international competitiveness.

No specific manufacturing request is being made at this time. Such a request would be made to the Board on a case-by-case basis.

In accordance with the Board's regulations, a member of the FTZ Staff has been designated examiner to investigate the application and report to the Board.

Public comment is invited from interested parties. Submissions (original and 3 copies) shall be addressed to the Board's Executive Secretary at the address below.

The closing period for their receipt is September 10, 2001. Rebuttal comments in response to material submitted during the foregoing period may be submitted during the subsequent 15-day period (to September 24, 2001).

A copy of the application and accompanying exhibits will be available for public inspection at each of the following locations:

U.S. Department of Commerce, Export Assistance Center, 200 E. las Olas Blvd. (Sun Sentinel Bldg.), Suite 1600, Ft. Lauderdale, Florida 33301-2284

Office of the Executive Secretary, Foreign-Trade Zones Board, Room 4008, U.S. Department of Commerce, 14th & Pennsylvania Avenue, NW, Washington, DC 20230

Dated: June 29, 2001.
Dennis Puccinelli,
Executive Secretary.

[FR Doc. 01-17372 Filed 7-10-01; 8:45 am]

BILLING CODE 3510-DS-P